FEDERAL COMMUNICATIONS COMMISSION

[Report No. 2481]

Petitions for Reconsideration and Clarification of Action in Rulemaking Proceedings

May 3, 2001.

Petitions for Reconsideration and Clarification have been filed in the Commission's rulemaking proceedings listed in this Public Notice and published pursuant to 47 CFR section 1.429(e). The full text of these documents are available for viewing and copying in Room CY-A257, 445 12th Street, S.W., Washington, D.C. or may be purchased from the Commission's copy contractor, ITS, Inc. (202) 857-3800. Oppositions to these petitions must be filed by May 25, 2001. See section 1.4(b)(1) of the Commission's rules (r7 CFR 1.4(b)(1)). Replies to an opposition must be filed within10 days after the time for filing oppositions have expired.

Subject: Federal-State Joint Board on Universal Service (CC Docket No. 96-45).

Number of Petitions Filed: 1.

Subject:

Carriage of Digital Television Broadcast Stations (CS Docket No. 98-120) Amendments to Part 76 of the Commission's Rules

Implementation of the Satellite Home Viewer Improvement Act of 1999: Local Broadcast Signal Carriage Issues (CS Docket No. 00-96)

Application of Network Non-Duplication, Syndicated Exclusively and Sports Blackout Rules to Satellite Retransmission of Broadcast Signals (CS Docket No. 00-2)

Number of Petitions Filed: 10.

Federal Communications Commission.
Magalie Roman Salas,
Secretary.

[FR Doc. 01-11844 Filed 5-9-01; 8:45 am]

BILLING CODE 6712-01-M